NATIONAL AERONAUTICS AND SPACE ADMINISTRATION

[Notice (01-192)]

Government-Owned Patent, Available for Licensing

AGENCY: National Aeronautics and Space Administration.

ACTION: Notice of availability of a patent for licensing.

SUMMARY: The patent listed below assigned to the National Aeronautics and Space Administration is available for licensing on a nonexclusive basis.

DATES: August 3, 2001.

FOR FURTHER INFORMATION CONTACT: Harry Lupuloff, Patent Attorney, NASA Headquarters, Code GP, Washington, DC 20546; telephone (202) 358-2424, fax (202) 358-4341.

U.S. Patent No. 6,223,143 “Quantitative Risk Assessment System (QRAS).”

Dated: July 30, 2001.
Edward A. Frankle,
General Counsel.

[FR Doc. 01-19405 Filed 8-2-01; 8:45 am]

BILLING CODE 7510-01-P